DEPARTMENT OF JUSTICE

[OMB Number 1124-0001]

Agency Information Collection Activities: Proposed Collection; Comments Requested: Registration Statement (Foreign Agents)

ACTION: 60-Day Notice.

The Department of Justice (DOJ), National Security Division (NSD), will be submitting the following information collection request to the Office of Management and Budget (OMB) for review and approval in accordance with the Paperwork Reduction Act of 1995. The proposed information collection is published to obtain comments from the public and affected agencies. Comments are encouraged and will be accepted for “sixty days” until January 13, 2014. This process is conducted in accordance with 5 CFR 1320.10.

For comments, especially on the estimated public burden or associated response time, suggestions, copies of the proposed information collection instrument with instructions or for additional information, please write to U.S. Department of Justice, 10th & Constitution Avenue NW, National Security Division, Counterespionage Section/Registration Unit, Bicentennial (BICN) Building—Room 10118, Washington, DC 20530. For a copy of the collection instrument with instructions, or for additional information, please contact the Registration Unit at 202.233.0776.

Written comments and suggestions from the public and affected agencies concerning the proposed collection of information are encouraged. Comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of currently approved collection.

(2) Title of the Form/Collection: Registration Statement (Foreign Agents)

(3) The agency form number, if any, and the applicable component of the Department of Justice sponsoring the collection: Form Number: NSD-1. National Security Division, U.S. Department of Justice. Pursuant to Section 212 of Public Law 110-81, the Honest Leadership and Open Government Act of 2007 (HLOGA), the FARA registration forms recently submitted to OMB for 3 year renewal approvals, contain fillable-fileable, and E-signature capabilities, and the FARA eFile system in operation since March 1, 2011, permits registrants to file their registration forms electronically to the FARA Registration Unit, 24 hours a day, seven days a week. FARA eFile is accessed via the FARA public Web site located at http://www.fara.gov, and provides instructions to assist registrants in completing, signing and submitting the required FARA registration forms, as well as instructions on how to electronically pay the required registration fees via online credit or debit card payments.

(4) Affected public who are asked or required to respond, as well as a brief abstract: Primary: Business or other for-profit, Not-for-profit institutions, and individuals or households. The form contains registration statement and information used for registering foreign agents under the Foreign Agents Registration Act of 1938, as amended, 22 U.S.C. 611, et seq.

(5) An estimate of the total number of responses and the amount of time estimated for an average response: The total estimated number of responses is 67 at approximately 1.375 hours (1 hour and 22 minutes) per response.

(6) An estimate of the total public burden (in hours) associated with the collection: There are an estimated 92 annual burden hours associated with this collection.

If additional information is required contact: Jerri Murray, Department Clearance Officer, Policy and Planning Staff, Justice Management Division, Department of Justice, Two Constitution Square, Suite 3W-1407B, 145 N Street NE., Washington, DC20530.

Dated: November 5, 2013.
Jerri Murray,
Department Clearance Officer for PRA, U.S. Department of Justice.

[FR Doc. 2013-26880 Filed 11-8-13; 8:45 am]

BILLING CODE 4410-PF-P